DEPARTMENT OF ENERGY

Federal Energy Regulatory Commission

[Project No. 405-106]

Exelon Generation Company, LLC; Notice of Staff Attendance at Meeting

On Wednesday, November 13, 2013, Commission staff will attend the Maryland Department of Natural Resources (Maryland DNR) Open House on the Conowingo Dam Relicensing Process. The purpose of the Open House is for Maryland DNR to provide local citizens and stakeholders with information on the relicensing process and timeline for Exelon Generation Company's Conowingo Hydroelectric Project No. 405.

The Open House will be held from 7:00 p.m. to 9:30 p.m. at the Harford Community College, Chesapeake Center Theater, 401 Thomas Run Road, Bel Air, Maryland 21015. For further information, visit Maryland DNR's Web site at http://www.dnr.maryland.gov/waters/Conowingo.asp. Please take note that Commission staff will only be able to address procedural questions related to the Conowingo relicensing process.

Dated: November 6, 2013.
Kimberly D. Bose,
Secretary.

[FR Doc. 2013-27292 Filed 11-14-13; 8:45 am]

BILLING CODE 6717-01-P